DEPARTMENT OF THE INTERIOR

Geological Survey

Agency Information Collection Activities: Proposed Collection; Comment Request

AGENCY: U.S. Geological Survey (USGS), Interior.

ACTION: Notice of extension of an information collection (1028-0070).

SUMMARY: To comply with the Paperwork Reduction Act of 1995 (PRA), USGS is inviting comments on a collection of information that we will submit to the Office of Management and Budget (OMB) for review and approval. The information collection request (ICR) concerns the paperwork requirements in the Consolidated Consumers' Report, Form 9-4117MA.

DATES: Submit written comments by August 3, 2007.

ADDRESSES: You may submit comments by any of the following methods listed below. Please use the Information Collection Number 1028-0070 as an identifier in your message.

• E-mail USGS at atravnic@usgs.gov. Identify with Information Collection Number 1028-0070 in the subject line.

• Fax: 703-648-6821. Identify with Information Collection Number 1028-0070.

• Mail or hand-carry comments to the Department of the Interior; U.S. Geological Survey; Attention: Alfred Travnicek; 12201 Sunrise Valley Drive, MS-807; Reston, Virginia 20192. Please reference “Information Collection 1028-0070” in your comments.

FOR FURTHER INFORMATION CONTACT: Imogene Bynum, Data Collection and Coordination Section, Minerals Information Team at (703) 648-7960. You may also contact Imogene Bynum to obtain a copy, at no cost, of Form 9-4117MA.

SUPPLEMENTARY INFORMATION: Title: Consolidated Consumers' Report, Form 9-4117MA.

OMB Control Number: 1028-0070.

Abstract: Respondents supply the U.S. Geological Survey with domestic consumption data of 12 metals and ferroalloys, some of which are considered strategic and critical. This information will be published as chapters in Minerals Yearbooks, monthly Mineral Industry Surveys, annual Mineral Commodity Summaries, and special publications, for use by Government agencies, industry, education programs, and the general public.

We will protect information from respondents considered proprietary under the Freedom of Information Act (5 U.S.C. 552) and its implementing regulations (43 CFR part 2) and under regulations at 30 CFR 250.197, “Data and information to be made available to the public or for limited inspection.” No items of a sensitive nature are collected. Responses are voluntary. We intend to release data collected on Form 9-4117MA only in a summary format that is not company-specific.

Frequency: Monthly and Annually.

Estimated Number and Description of Respondents: 397 consumers of ferrous and related metals. Respondents are canvassed for one frequency period only (e.g., monthly respondents are not canvassed annually).

Estimated Annual Reporting and Recordkeeping “Hour” Burden: The currently approved “hour” burden for Form 9-4117MA is 1,709 hours. We estimate the public reporting burden averages 45 minutes per response. This includes the time for reviewing instructions, gathering and maintaining data, and completing and reviewing the information.

Estimated Annual Reporting and Recordkeeping “Non-Hour Cost” Burden: We have identified no “non-hour cost ” burden associated with Form 9-4116MA.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software your purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Before including your address, phone number, e-mail address, or other personal identifying information in your comment, you should be aware that your entire comment—including your personal identifying information—may be made publicly available at any time. While you can ask us in your comment to withhold your personal identifying information from public review, we cannot guarantee that we will be able to do so.

USGS Information Collection Clearance Office: Alfred Travnicek (703) 648-7231.

Dated: May 29, 2007.
John H. DeYoung, Jr.,
Chief Scientist, Minerals Information Team.

[FR Doc. 07-2735 Filed 6-1-07; 8:45 am]

BILLING CODE 4311-AM-M